DEPARTMENT OF ENERGY

Federal Energy Regulatory Commission

Combined Notice of Filings

Take notice that the Commission has received the following Natural Gas Pipeline Rate and Refund Report filings:

Filings Instituting Proceedings

Docket Numbers: RP15-984-000.

Applicants: White River Hub, LLC.

Description: Annual Report of Fuel Gas Reimbursement Percentage for 2015 of White River Hub, LLC.

Filed Date: 5/12/15.

Accession Number: 20150512-5094.

Comments Due: 5 p.m. ET 5/26/15.

Docket Numbers: RP15-985-000.

Applicants: Questar Southern Trails Pipeline Company.

Description: Annual Report of Fuel Gas Reimbursement Percentage for 2015 of Questar Southern Trails Pipeline Company.

Filed Date: 5/12/15.

Accession Number: 20150512-5097.

Comments Due: 5 p.m. ET 5/26/15.

Docket Numbers: RP15-996-000.

Applicants: Gulf South Pipeline Company, LP.

Description: Section 4(d) rate filing per 154.204: Cap Rel Neg Rate Agmts (Atlanta Gas 8438 to various eff 5/1/15) to be effective 5/1/2015.

Filed Date: 5/21/15.

Accession Number: 20150521-5066.

Comments Due: 5 p.m. ET 6/2/15.

Docket Numbers: RP15-997-000.

Applicants: Natural Gas Pipeline Company of America.

Description: Section 4(d) rate filing per 154.204: Substitute Published Index Prices to be effective 7/1/2015.

Filed Date: 5/21/15.

Accession Number: 20150521-5224.

Comments Due: 5 p.m. ET 6/2/15.

Docket Numbers: RP15-998-000.

Applicants: Texas Eastern Transmission, LP.

Description: Section 4(d) rate filing per 154.204: Negotiated Rate—Chevron Jun2014 TEAM2014 Release to be effective 6/1/2015.

Filed Date: 5/22/15.

Accession Number: 20150522-5143.

Comments Due: 5 p.m. ET 6/3/15.

Docket Numbers: RP15-999-000.

Applicants: Algonquin Gas Transmission, LLC.

Description: Section 4(d) rate filing per 154.204: Negotiated Rates Cleanup—Contract 789456 to be effective 6/1/2015.

Filed Date: 5/22/15.

Accession Number: 20150522-5147.

Comments Due: 5 p.m. ET 6/3/15.

Docket Numbers: RP15-1000-000.

Applicants: Rockies Express Pipeline LLC.

Description: Section 4(d) rate filing per 154.204: Neg Rate 2015-05-15 E2W to be effective 7/1/2015.

Filed Date: 5/22/15.

Accession Number: 20150522-5234.

Comments Due: 5 p.m. ET 6/3/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-956-001.

Applicants: Gulf South Pipeline Company, LP.

Description: Tariff Amendment per 154.205(b): Amendment to Filing in RP15-956-000 to be effective 5/1/2015.

Filed Date: 5/20/15.

Accession Number: 20150520-5112.

Comments Due: 5 p.m. ET 6/1/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2015.
Nathaniel J. Davis, Sr.,
Deputy Secretary.

[FR Doc. 2015-13084 Filed 5-29-15; 8:45 am]

BILLING CODE 6717-01-P